DEPARTMENT OF TRANSPORTATION

Federal Motor Carrier Safety Administration

[Docket No. FMCSA-2019-0159]

Parts and Accessories Necessary for Safe Operation; Exemption Renewal From Vision Systems North America, Inc.

AGENCY: Federal Motor Carrier Safety Administration (FMCSA), Department of Transportation (DOT).

ACTION: Notice of final disposition; granting of renewal of exemption.

SUMMARY: FMCSA announces its final decision to renew the exemption granted to Vision Systems North America, Inc. (VSNA) to allow motor carriers to operate commercial motor vehicles (CMV) with the company's Smart-Vision high-definition camera monitoring system (Smart-Vision) installed as an alternative to the two rear-vision mirrors required by the Federal Motor Carrier Safety Regulations (FMCSRs).

DATES: This renewed exemption is effective January 15, 2025, through January 15, 2030.

FOR FURTHER INFORMATION CONTACT: Mr. David Sutula, Chief, Vehicle and Roadside Operations Division, Office of Carrier, Driver, and Vehicle Safety, FMCSA, 1200 New Jersey Avenue SE, Washington, DC 20590-0001; (202) 366-9209; MCPSV@dot.gov. If you have questions on viewing or submitting material to the docket, call Dockets Operations at (202) 366-9826.

SUPPLEMENTARY INFORMATION:

I. Public Participation

Viewing Comments and Documents

To view comments, go to www.regulations.gov, insert the docket number “FMCSA-2019-0159” in the keyword box, and click “Search.” Next, sort the results by “Posted (Newer-Older),” choose the first notice listed, and click “Browse Comments.” To view documents mentioned in this notice as being available in the docket, go to www.regulations.gov, insert the docket number “FMCSA-2019-0159” in the keyword box, click “Search,” and chose the document to review.

If you do not have access to the internet, you may view the docket online by visiting Dockets Operations on the ground floor of the DOT West Building, 1200 New Jersey Avenue SE, Washington, DC 20590, between 9 a.m. and 5 p.m., ET, Monday through Friday, except Federal holidays. To be sure someone is there to help you, please call (202) 366-9317 or (202) 366-9826 before visiting Dockets Operations.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews safety analyses and public comments submitted and determines whether granting the exemption would likely achieve a level of safety equivalent to, or greater than, the level that would be achieved by the current regulation (49 CFR 381.305(a)). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

FMCSA requires in 49 CFR 393.80(a) that each bus, truck, and truck tractor be equipped with two rear-vision mirrors, one at each side. The mirrors must be positioned to reflect to the driver a view of the highway to the rear and the area along both sides of the CMV. Section 393.80(a) also requires that the National Highway Traffic Safety Administration's standard for mirrors on motor vehicles in Federal Motor Vehicle Safety Standard (FMVSS) No. 111 be met. Paragraph S7.1 of FMVSS No. 111 provides requirements for mirrors on multipurpose passenger vehicles and trucks with a gross vehicle weight rating (GVWR) greater than 4,536 kg and less than 11,340 kg and each bus, other than a school bus, with a GVWR of more than 4,536 kg. Paragraph S8.1 provides requirements for mirrors on multipurpose passenger vehicles and trucks with a GVWR of 11,340 kg or more.

IV. Application for Renewal of Exemption

The renewal application for exemption from VSNA was described in detail in a Federal Register notice published on October 18, 2024 (89 FR 83937) and will not be repeated here as the facts have not changed.

V. Public Comments

The Agency received one comment supporting the exemption renewal and no comments opposing it.

Matthew Buchannan, an individual commenter, stated, “I fully support this request. These have shown to be very reliable in all weather conditions day or night. Also, they give the benefit of removing the blind spots created by the mirrors themselves. I believe that these systems should be allowed on a permanent basis and not just another extension.”

VI. FMCSA Safety Analysis and Agency Decision

FMCSA is not aware of any evidence showing that the operation of VSNA's Smart-Vision system in accordance with the conditions of the original exemption has resulted in any degradation in safety. Moreover, the information VSNA provided in its application supports the view that the company's Smart-Vision system maintains the requisite statutory level of safety. Therefore, for the reasons discussed above and in the prior notice granting the original exemption request, FMCSA concludes that renewing the exemption granted on January 15, 2025, for a subsequent 5 years, on the terms and conditions set forth in this exemption renewal decision, will likely maintain a level of safety that is equivalent to, or greater than, the level of safety achieved without the exemption.

VII. Exemption Decision

A. Grant of Exemption

FMCSA renews the exemption for a subsequent period of 5 years subject to the terms and conditions of this decision. The exemption from the requirements of 49 CFR 393.80 is effective January 15, 2025, through January 15, 2030, 11:59 p.m. local time, unless revoked.

B. Applicability of Exemption

During the temporary exemption period, motor carriers operating CMVs may install and use the VSNA's Smart-Vision system in lieu of the two rear-vision mirrors required by § 393.80.

C. Terms and Conditions

1. This exemption is limited to the VSNA's Smart-Vision system installed on CMVs and does not apply to any other camera-based mirror replacement system/technology.

2. Motor carriers using the VSNA's Smart-Vision system installed on CMVs must report to FMCSA on an annual basis to MCPSV@dot.gov: (1) the total number of CMVs operating under the terms and conditions of the exemption; and (2) any crashes, other than front-end crashes, involving CMVs operating under the exemption. The reports are due by the end of the calendar year beginning from the effective date of this exemption.

3. Drivers operating CMVs under this exemption must inspect the Smart-Vision system each time before operating the CMV and be satisfied that it is in proper working order.

4. Drivers operating CMVs under this exemption must inspect the Smart-Vision system at the end of each day and note any defects in the equipment on the driver vehicle inspection report. The motor carrier must repair any defects noted by the driver before it operates the CMV again.

5. The motor carrier must periodically inspect the Smart-Vision system in addition to the existing inspection required at least once every 12 months.

6. Motor carriers using the VSNA's Smart-Vision system installed on CMVs must notify FMCSA within 5 business days after they become aware, or otherwise determine, that the continued use of Smart-Vision system covered by this exemption is no longer likely to maintain a level of safety that is at least equivalent to the level that would be achieved absent this exemption. Notification must be made by sending an email to FMCSA at MCPSV@dot.gov.

D. Preemption

In accordance with 49 U.S.C. 31315(d), as implemented by 49 CFR 381.600, during the period this exemption is in effect, no State shall enforce any law or regulation that conflicts with or is inconsistent with this exemption with respect to a person operating under the exemption. States may, but are not required to, adopt the same exemption with respect to operations in intrastate commerce.

E. Termination

FMCSA does not believe that motor carriers and CMVs covered by the exemption will experience any deterioration of their safety record. The Agency will, however, rescind the exemption if: (1) motor carriers and/or CMVs operating under the exemption fail to comply with the terms and conditions of the exemption; (2) the exemption results in a lower level of safety than was maintained before it was granted; or (3) continuation of the exemption would not be consistent with the goals and objective of 49 U.S.C. 31136 or chapter 313.

Vincent G. White,
Deputy Administrator.

[FR Doc. 2025-00900 Filed 1-15-25; 8:45 am]

BILLING CODE 4910-EX-P